FEDERAL COMMUNICATIONS COMMISSION

47 CFR Part 73

[DA 05-1145, MB Docket No. 04-317, RM-11004, RM-11118]

Radio Broadcasting Services; Center, TX and Logansport, LA

AGENCY: Federal Communications Commission.

ACTION: Proposed rule; dismissal.

SUMMARY: At the request of Team Broadcasting Company, Inc. and Charles Crawford, the Audio Division dismisses the two petitions for rule making proposing the allotment of Channel 248A at Center, Texas the community's second local FM transmission service (RM-11004). See 69 FR 51415, August 19, 2004. At the request of Logansport Broadcasting, we also dismiss the counterproposal proposing the allotment of Channel 248A at Logansport, Louisiana (RM-11118). A showing of continuing interest is required before a channel will be allotted. It is the Commission's policy to refrain from making an allotment to a community absent an expression of interest. Therefore, we will grant the requests to dismiss the Center, Texas and Logansport, Louisiana petitions.

FOR FURTHER INFORMATION CONTACT: Sharon P. McDonald, Media Bureau, (202) 418-2180.

SUPPLEMENTARY INFORMATION: This is a synopsis of the Commission's Report and Order, MB Docket No. 04-317, adopted April 25, 2005, and released April 27, 2005. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. This document is not subject to the Congressional Review Act. (The Commission, is, therefore, not required to submit a copy of this Report and Order to GAO, pursuant to the Congressional Review Act, see 5 U.S.C. 801(a)(1)(A) because the proposed rule was dismissed.

Federal Communications Commission.
John A. Karousos,
Assistant Chief, Audio Division, Media Bureau.

[FR Doc. 05-9291 Filed 5-10-05; 8:45 am]

BILLING CODE 6712-01-P